COMMISSION ON CIVIL RIGHTS

Agenda and Notice of Public Meeting of the District of Columbia Advisory Committee

Notice is hereby given, pursuant to the provisions of the rules and regulations of the U.S. Commission on Civil Rights (Commission), and the Federal Advisory Committee Act (FACA), that a day long briefing meeting of the District of Columbia Advisory Committee to the Commission will convene at 9 a.m. on Thursday, October 16, 2008, at the U.S. Commission on Civil Rights, 624 Ninth Street, NW., Conference Room 540, Washington, DC 20425. The purpose of the briefing meeting is to review education issues the District of Columbia.

Members of the public are invited to offer comments—written comments must be received in the Eastern Regional Office by Monday, November 17, 2008. The address is Eastern Regional Office, 624 Ninth Street, NW., Suite 740, Washington, DC 20425. Persons wishing to e-mail their comments or who desire additional information should contact Alfreda Greene, Secretary, at 202-376-7533, or by e-mail: agreene@usccr.gov.

Hearing-impaired persons who will attend the meeting and require the services of a sign language interpreter should contact the Regional Office at least ten (10) working days before the scheduled date of the meeting.

Records generated from this meeting may be inspected and reproduced at the Eastern Regional Office, as they become available, both before and after the meeting. Persons interested in the work of this advisory committee are advised to go to the Commission's Web site, http://www.usccr.gov, or to contact the Eastern Regional Office at the above e-mail or street address.

The meeting will be conducted pursuant to the provisions of the rules and regulations of the Commission and FACA.

Dated in Washington, DC, September 30, 2008.
Christopher Byrnes,
Chief, Regional Programs Coordination Unit.

[FR Doc. E8-23435 Filed 10-2-08; 8:45 am]

BILLING CODE 6335-01-P